DEPARTMENT OF VETERANS AFFAIRS

[OMB Control No. 2900-0068]

Agency Information Collection Activity: Application for Service-Disabled Veterans Insurance

AGENCY: Veterans Benefits Administration, Department of Veterans Affairs.

ACTION: Notice to withdraw.

SUMMARY: On February 1, 2018, the Department of Veterans Affairs (VA) erroneously published a consecutive 60-day Federal Register Notice (Application for Service-Disabled Veterans Insurance) Document Number: 2018-01945; OMB control number: 2900-0068.

FOR FURTHER INFORMATION CONTACT: Cynthia Harvey-Pryor, Enterprise Records Service (005R1B), Department of Veterans Affairs, 810 Vermont Avenue NW, Washington, DC 20420, at 202-461-5870.

Correction

VA wishes to inform the public that it is withdrawing FR Document Number 2018-01945, published Thursday, February 1, 2018. To correct the error, VA has submitted a 30-day Federal Register Notice for OMB 2900-0068 for public comment.

Dated: February 16, 2018.
By direction of the Secretary.
Cynthia Harvey-Pryor,
Department Clearance Officer, Office of Privacy, Quality and Risk, Department of Veterans Affairs.

[FR Doc. 2018-03585 Filed 2-22-18; 8:45 am]

BILLING CODE 8320-01-P